DEPARTMENT OF ENERGY

Federal Energy Regulatory Commission

[Project No.: 733-010]

Eric Jacobson; Notice of Application Tendered for Filing With the Commission and Establishing Procedural Schedule for Licensing and Deadline for Submission of Final Amendments

April 18, 2008.

Take notice that the following hydroelectric application has been filed with the Commission and is available for public inspection.

a. Type of Application: Minor License.

b. Project No.: 733-010.

c. Date Filed: April 9, 2008.

d. Applicant: Eric Jacobson.

e. Name of Project: Ouray Hydroelectric Project.

f. Location: The project is located on the Uncompahgre River in Ouray County, Colorado. The project occupies lands within the Uncompahgre National Forest managed by the U.S. Forest Service.

g. Filed Pursuant to: Federal Power Act 16 U.S.C. 791(a)-825(r).

h. Applicant Contact: Eric Jacobson, P.O. Box 745, Telluride, CO 81435; (970) 369-4662.

i. FERC Contact: Steve Hocking, (202) 502-8753 or steve.hocking@ferc.gov.

j. This application is not ready for environmental analysis at this time.

k. Project Description: The project consists of the following existing facilities: (1) A 0.48-acre reservoir formed by a 70-foot-long masonry gravity dam with a maximum height of 72 feet consisting of a 51-foot-long non-overflow section and a 19-foot-wide spillway; (2) a 6,130-foot-long pressure pipeline; (3) a 32-by-65-foot powerhouse containing three turbine-generating units with a total authorized capacity of 632 kilowatts (kW); and (4) appurtenant facilities. The applicant proposes to upgrade turbine-generator unit No. 1 and add a fourth turbine-generator unit to increase the project's total installed capacity to 775 kW.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659. A copy is also available for inspection and reproduction by contacting the applicant using the contact information in item (h) above.

m. You may also register online at http://www.ferc.gov/esubscribenow.htm to be notified via email of new filings and issuances related to this or other pending projects. For assistance, contact FERC Online Support.

n. Procedural Schedule: The application will be processed according to the following Hydro Licensing Schedule. Revisions to the schedule may be made as appropriate.

Milestone | Target date
Notice of Acceptance/Notice of Ready for Environmental Analysis | September 1, 2008.
Interventions, Recommendations, Terms and Conditions due | October 30, 2008.
Commission Issues Single Environmental Assessment (EA) | January 13, 2009.
EA Comments due | February 12, 2009.
Modified Terms and Conditions due | April 13, 2009.

o. Final amendments to the application must be filed with the Commission no later than 30 days from the issuance date of the notice of ready for environmental analysis.

Kimberly D. Bose,
Secretary.

[FR Doc. E8-9022 Filed 4-24-08; 8:45 am]

BILLING CODE 6717-01-P